DEPARTMENT OF COMMERCE

National Oceanic and Atmospheric Administration

[I.D. 031607F]

Marine Mammals; File No. 1095-1837

AGENCY: National Marine Fisheries Service (NMFS), National Oceanic and Atmospheric Administration (NOAA), Commerce.

ACTION: Notice; issuance of permit.

SUMMARY: Notice is hereby given that Dorian S. Houser, Ph.D., Biomimetica, 7951 Shantung Drive, Santee, CA 92071 has been issued a permit to conduct research on marine mammals.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Kate Swails or Amy Sloan, (301)713-2289.

SUPPLEMENTARY INFORMATION: On July 5, 2006, notice was published in the Federal Register ( 71 FR 38136) that a request for a scientific research permit to take individuals of any species of cetaceans in the U.S. had been submitted by the above-named individual. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the Regulations Governing the Taking, Importing, and Exporting of Endangered and Threatened species (50 CFR parts 222-226).

The applicant will use auditory evoked potential recordings with non-invasive suction cup sensors on up to 15 individuals of any species of cetaceans in the U.S. The research will be conducted on stranded or accidentally entrapped animals in the field or at a rehabilitation center.

In compliance with the National Environmental Policy Act of 1969 (42 U.S.C. 4321 et seq.), a final determination has been made that the activity proposed is categorically excluded from the requirement to prepare an environmental assessment or environmental impact statement.

Issuance of this permit, as required by the ESA, was based on a finding that such permit: (1) was applied for in good faith; (2) will not operate to the disadvantage of such endangered species; and (3) is consistent with the purposes and policies set forth in section 2 of the ESA.

Dated: March 19, 2007.
P. Michael Payne,
Chief, Permits, Conservation and Education Division, Office of Protected Resources, National Marine Fisheries Service.

[FR Doc. E7-5380 Filed 3-22-07; 8:45 am]

BILLING CODE 3510-22-S